SECURITIES AND EXCHANGE COMMISSION

[File No. 500-1]

In the Matter of Scanner Technologies Corp., Seville Ventures Corp., StarInvest Group, Inc., and The Digital Development Group Corp.; Order of Suspension of Trading

July 20, 2016.

It appears to the Securities and Exchange Commission (“Commission”) that there is a lack of current and accurate information concerning the securities of Scanner Technologies Corp. (“SCNI ¹”) (CIK No. 217222), a revoked New Mexico corporation located in Minneapolis, Minnesota with a class of securities registered with the Commission pursuant to Securities Exchange Act of 1934 (“Exchange Act”) Section 12(g) because it is delinquent in its periodic filings with the Commission, having not filed any periodic reports since it filed a Form 10-Q for the period ended September 30, 2008. On January 29, 2016, the Commission's Division of Corporation Finance (“Corporation Finance”) sent a delinquency letter to SCNI requesting compliance with its periodic filing requirements but SCNI did not receive the delinquency letter due to its failure to maintain a valid address on file with the Commission as required by Commission rules (Rule 301 of Regulation S-T, 17 CFR 232.301 and Section 5.4 of EDGAR Filer Manual) (“Commission Issuer Address Rules”). As of July 14, 2016, the common stock of SCNI was quoted on OTC Link operated by OTC Markets Group Inc. (formerly “Pink Sheets”) (“OTC Link”), had four market makers, and was eligible for the “piggyback” exception of Exchange Act Rule 15c2-11(f)(3).

¹ The short form of each issuer's name is also its stock symbol.

It appears to the Commission that there is a lack of current and accurate information concerning the securities of Seville Ventures Corp. (“SVLE”) (CIK No. 1527424), a revoked Nevada corporation located in Byron, Illinois with a class of securities registered with the Commission pursuant to Exchange Act Section 12(g) because it is delinquent in its periodic filings with the Commission, having not filed any periodic reports since it filed a Form 10-Q for the period ended April 30, 2014. On October 19, 2015, Corporation Finance sent a delinquency letter to SVLE requesting compliance with its periodic filing requirements but SVLE did not receive the delinquency letter due to its failure to maintain a valid address on file with the Commission as required by Commission Issuer Address Rules. As of July 14, 2016, the common stock of SVLE was quoted on OTC Link, had one market makers, and was eligible for the “piggyback” exception of Exchange Act Rule 15c2-11(f)(3).

It appears to the Commission that there is a lack of current and accurate information concerning the securities of StarInvest Group, Inc. (“STIV”) (CIK No. 810270), a revoked Nevada corporation located in Long Beach, New York with a class of securities registered with the Commission pursuant to Exchange Act Section 12(g) because it is delinquent in its periodic filings with the Commission, having not filed any periodic reports since it filed a Form 10-K for the period ended December 31, 2010. On March 3, 2014, Corporation Finance sent a delinquency letter to STIV requesting compliance with its periodic filing requirements but STIV did not receive the delinquency letter due to its failure to maintain a valid address on file with the Commission as required by Commission Issuer Address Rules. As of July 14, 2016, the common stock of STIV was quoted on OTC Link, had five market makers, and was eligible for the “piggyback” exception of Exchange Act Rule 15c2-11(f)(3).

It appears to the Commission that there is a lack of current and accurate information concerning the securities of The Digital Development Group Corp. (“DIDG”) (CIK No. 1379699), a Nevada corporation located in Los Angeles, California with a class of securities registered with the Commission pursuant to Exchange Act Section 12(g) because it is delinquent in its periodic filings with the Commission, having not filed any periodic reports since it filed a Form 10-Q for the period ended September 30, 2014. On November 30, 2015, Corporation Finance sent a delinquency letter to DIDG requesting compliance with its periodic filing requirements but DIDG did not receive the delinquency letter due to its failure to maintain a valid address on file with the Commission as required by Commission Issuer Address Rules. As of July 14, 2016, the common stock of DIDG was quoted on OTC Link, had five market makers, and was eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 20, 2016, through 11:59 p.m. EDT on August 2, 2016.

By the Commission.
Jill M. Peterson,
Assistant Secretary.

[FR Doc. 2016-17449 Filed 7-20-16; 11:15 am]

BILLING CODE 8011-01-P